DEPARTMENT OF THE TREASURY

Office of Foreign Assets Control

Unblocking of Specially Designated Nationals and Blocked Persons Pursuant to the Foreign Narcotics Kingpin Designation Act

AGENCY: Office of Foreign Assets Control, Treasury.

ACTION: Notice.

SUMMARY: The Department of the Treasury's Office of Foreign Assets Control (“OFAC”) is publishing the names of six individuals and one entity whose property and interests in property have been unblocked pursuant to the Foreign Narcotics Kingpin Designation Act (“Kingpin Act”) (21 U.S.C. 1901-1908, 8 U.S.C. 1182). In addition, OFAC is publishing an amendment to the identifying information of one individual previously designated pursuant to the Kingpin Act.

DATES: The unblocking and removal from the list of Specially Designated Nationals and Blocked Persons (“SDN List”) of the six individuals and one entity, as well as the amendment of one individual, identified in this notice whose property and interests in property were blocked pursuant to the Kingpin Act, is effective on December 12, 2012.

FOR FURTHER INFORMATION CONTACT: Assistant Director, Sanctions Compliance & Evaluation, Department of the Treasury, Office of Foreign Assets Control, Washington, DC 20220, Tel: (202) 622-2420.

SUPPLEMENTARY INFORMATION:

Electronic and Facsimile Availability

This document and additional information concerning OFAC are available from OFAC's Web site at www.treasury.gov/ofac or via facsimile through a 24-hour fax-on demand service at (202) 622-0077.

Background

On December 3, 1999, the Kingpin Act was signed into law by the President of the United States. The Kingpin Act provides a statutory framework for the President to impose sanctions against significant foreign narcotics traffickers and their organizations on a worldwide basis, with the objective of denying their businesses and agents access to the U.S. financial system and to the benefits of trade and transactions involving U.S. persons and entities.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property or interests in property, subject to U.S. jurisdiction, of persons or entities found to be: (1) Materially assisting in, or providing financial or technological support for or to, or providing goods or services in support of, the international narcotics trafficking activities of a person designated pursuant to the Kingpin Act; (2) owned, controlled, or directed by, or acting for or on behalf of, a person designated pursuant to the Kingpin Act; and/or (3) playing a significant role in international narcotics trafficking.

On December 12, 2012, the Director of OFAC removed from the SDN List the six individuals and one entity listed below, whose property and interests in property were blocked pursuant to the Kingpin Act:

Individuals

1. ARCE FLORES, Lorenzo, Avenida Madero No. 1010, Tijuana, Baja California, Mexico; Carillo Puerto, Calle 2025, 21B, Zona Central, Tijuana, Baja California, Mexico; c/o MULTICAJA DE TIJUANA, S.A. DE C.V., Tijuana, Baja California, Mexico; c/o CAJA AMIGO EXPRESS, S.A. DE C.V., Tijuana, Baja California, Mexico; c/o MODULO DE CAMBIOS, Tijuana, Baja California, Mexico; c/o OPERADORA DE CAJA Y SERVICIOS, S.A. DE C.V., Tijuana, Baja California, Mexico; c/o PATRICIA CASA DE CAMBIO, Tijuana, Baja California, Mexico; c/o PROMOTORA FIN, S.A., Tijuana, Baja California, Mexico; c/o QUINTA REAL JARDIN SOCIAL Y DE EVENTOS, S.A. DE C.V., Tijuana, Baja California, Mexico; 750 Brookstone Road #201, Chula Vista, CA 91913; c/o CAJA AMIGO EXPRESS, S.A. DE C.V., Chula Vista, CA 91910; c/o A.L.S. FINANCIAL, INC., Coronado, CA 92178; DOB 06 May 1931; alt. DOB 06 May 1941; alt. DOB 05 May 1941; alt. DOB 01 May 1941; POB Mexicali, Baja California, Mexico; nationality Mexico; citizen Mexico; R.F.C. AEFL-410506-MS7 (Mexico) (individual) [SDNTK].

2. ARCE PINA, Araceli, c/o QUINTA REAL JARDIN SOCIAL Y DE EVENTOS S.A. DE C.V., Tijuana, Baja California, Mexico; DOB 28 Oct 1974; POB Baja California, Mexico; nationality Mexico; citizen Mexico; C.U.R.P. AEPA741028MBCRXR07 (Mexico) (individual) [SDNTK].

3. GOMEZ ZULUAGA, Pablo Alberto, c/o C.I. DISTRIBUIDORA DE SERVICIOS COMBUSTIBLES Y MINERIA S.A., Bogota, Colombia; c/o UNION DE CONSTRUCTORES CONUSA S.A., Bogota, Colombia; c/o LINEA AEREA PUEBLOS AMAZONICOS S.A.S., Bogota, Colombia; Carrera 91A No. 40-63, Medellin, Colombia; DOB 20 Jun 1967; Cedula No. 71685966 (Colombia) (individual) [SDNTK].

4. MARTINEZ GOMEZ, Milton Geovany; DOB 11 Jul 1972; POB Muzo, Boyaca, Colombia; Cedula No. 11186154 (Colombia) (individual) [SDNTK].

5. PINA DE ARCE, Delia, c/o PROMOTORA FIN, S.A., Tijuana, Baja California, Mexico; DOB 06 Aug 1942; POB Sonora, Mexico; nationality Mexico; citizen Mexico; C.U.R.P. PIXD420806MSRXXL07 (Mexico) (individual) [SDNTK].

6. SALAMANCA BUITRAGO, Mesias, c/o GESTION ALFA LTDA., Bogota, Colombia; Calle 62 No. 9A-82 of. 616, Bogota, Colombia; DOB 05 Jan 1951; alt. DOB 01 May 1951; Cedula No. 19133648 (Colombia) (individual) [SDNTK].

Entity

1. GESTION ALFA LTDA., Calle 62 No. 9A-82 of. 810, Bogota, Colombia; NIT # 830095836-9 (Colombia) [SDNTK].

In addition, OFAC has amended the identifying information for the following individual previously designated pursuant to the Kingpin Act:

1. SAENZ LEHNHOFF, Maria Corina (a.k.a. DE DEL PINAL, Maria Corina; a.k.a. SAENZ LEHNHOFF, Maria Gabriela; a.k.a. SAENZ PINAL, Maria Corina); DOB 19 May 1965; POB Guatemala; nationality Guatemala; Passport 31486K (Guatemala) (individual) [SDNTK] (Linked To: INMOBILIARIA DATEUS; Linked To: WALNUTHILL; Linked To: CABOMARZO; Linked To: GRUPO MPV; Linked To: DELPSA; Linked To: BRODWAY COMMERCE INC.; Linked To: CASA VOGUE).

The listing for this individual now appears as follows:

1. SAENZ LEHNHOFF, Maria Corina (a.k.a. DE DEL PINAL, Maria Corina; a.k.a. SAENZ PINAL, Maria Corina); DOB 19 May 1965; POB Guatemala; nationality Guatemala; Passport 31486K (Guatemala) (individual) [SDNTK] (Linked To: INMOBILIARIA DATEUS; Linked To: WALNUTHILL; Linked To: CABOMARZO; Linked To: GRUPO MPV; Linked To: DELPSA; Linked To: BRODWAY COMMERCE INC.; Linked To: CASA VOGUE).

Dated: December 12, 2012.
Adam J. Szubin,
Director, Office of Foreign Assets Control.

[FR Doc. 2012-30423 Filed 12-17-12; 8:45 am]

BILLING CODE 4810-AL-P